DEPARTMENT OF TRANSPORTATION

Federal Aviation Administration

[Summary Notice No. PE-2003-60]

Petitions for Exemption, Disposition of Petition Issued

AGENCY: Federal Aviation Administration (FAA), DOT.

ACTION: Notice of disposition of prior petition.

SUMMARY: Pursuant to FAA's rulemaking provisions governing the application, processing, and disposition of petitions for exemption part 11 of Title 14, Code of Federal Regulations (14 CFR), this notice contains the disposition of a certain petition previously received. The purpose of this notice is to improve the public's awareness of, and participation in, this aspect of FAA's regulatory activities. Neither publication of this notice nor the inclusion or omission of information in the summary is intended to affect the legal status of any petition or its final disposition.

FOR FURTHER INFORMATION CONTACT: Caren Centorelli, Office of Rulemaking (ARM-1), Federal Aviation Administration, 800 Independence Avenue, SW., Washington, DC 20591. Tel. (202) 267-8199.

This notice is published pursuant to 14 CFR 11.85 and 11.91.

Issued in Washington, DC, on October 14, 2003.
Richard D. McCurdy,
Acting Assistant Chief Counsel for Regulations.

Disposition of Petition

Docket No.: FAA-2002-12918.

Petitioner: Asia Pacific Airlines.

Section of 14 CFR Affected: 14 CFR 25.785(j), 25.813(b), 25.857(e) and 25.1447(c)(1).

Description of Relief Sought/Disposition: To allow carriage of two supernumeraries with the flight deck door closed during taxi, takeoff and landing and exits in the Class E compartment designated for supernumerary use in lieu of the right flight deck window exit.

Partial Grant, 09/10/2003, Exemption No. 8136.

[FR Doc. 03-26309 Filed 10-16-03; 8:45 am]

BILLING CODE 4910-13-M